DEPARTMENT OF THE INTERIOR

National Park Service

[N6563; NPS-WASO-NAGPRA-NPS0041187; PPWOCRADN0-PCU00RP14.R50000]

Notice of Inventory Completion: Museum of Us, San Diego, CA

AGENCY: National Park Service, Interior.

ACTION: Notice.

SUMMARY: In accordance with the Native American Graves Protection and Repatriation Act (NAGPRA), the Museum of Us has completed an inventory of associated funerary objects and has determined that there is a cultural affiliation between the associated funerary objects and Indian Tribes or Native Hawaiian organizations in this notice.

DATES: Repatriation of the associated funerary objects in this notice may occur on or after December 17, 2025.

ADDRESSES: Send written requests for repatriation of the associated funerary objects in this notice to Carmen Mosley, NAGPRA Repatriation Manager, Museum of Us, 1350 El Prado, Balboa Park, San Diego, CA 92101, email cmosley@museumofus.org.

SUPPLEMENTARY INFORMATION: This notice is published as part of the National Park Service's administrative responsibilities under NAGPRA. The determinations in this notice are the sole responsibility of the Museum of Us, and additional information on the determinations in this notice, including the results of consultation, can be found in its inventory or related records. The National Park Service is not responsible for the determinations in this notice.

Abstract of Information Available

The 16 associated funerary objects are from two archeological sites. The eight associated funerary objects removed from Nicholas Mound (CV-2) in Sutter County, CA, include one lot of carbonized textile and basketry material, one lot of miscellaneous burial material, one lot of carbonized plant material, one lot modified shell, two lots of modified stone, one lot of clay objects, and one lot of modified faunal bone. The eight associated funerary objects removed from Lincoln Mound (CV-22) in Placer County, CA, include two lots of modified faunal bone, one lot of modified shell, four lots of modified stone, and one lot of historic material. No CHRIS Trinomials are being used because the exact location of these sites is not known. There were several sites named Nicholas Mound and Lincoln Mound.

Between 1930 and 1936, the 16 associated funerary objects were obtained by a private collector and looter who amassed an extensive archeological collection over the course of his life. In 1968, this individual's archeological collection was acquired by the San Diego Museum of Man (now Museum of Us) through a purchase/donation transaction with the individual's widow.

Cultural Affiliation

Based on the information available and the results of consultation, cultural affiliation is clearly identified by the information available about the associated funerary objects described in this notice.

Determinations

The Museum of Us has determined that:

• The 16 objects described in this notice are reasonably believed to have been placed intentionally with or near individual human remains at the time of death or later as part of the death rite or ceremony.

• There is a connection between the human remains and associated funerary objects described in this notice and the United Auburn Indian Community of the Auburn Rancheria of California.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after December 17, 2025. If competing requests for repatriation are received, the Museum of Us must determine the most appropriate requestor prior to repatriation. Requests for joint repatriation of the associated funerary objects are considered a single request and not competing requests. The Museum of Us is responsible for sending a copy of this notice to the Indian Tribes and Native Hawaiian organizations identified in this notice and any other consulting parties.

Authority: Native American Graves Protection and Repatriation Act, 25 U.S.C. 3003, and the implementing regulations, 43 CFR 10.10.

Dated: September 18, 2025.
Melanie O'Brien,
Manager, National NAGPRA Program.

[FR Doc. 2025-19959 Filed 11-14-25; 8:45 am]

BILLING CODE 4312-52-P